DEPARTMENT OF COMMERCE

National Oceanic and Atmospheric Administration

[RTID 0648-XF264]

South Atlantic Fishery Management Council—Public Meetings

AGENCY: National Marine Fisheries Service (NMFS), National Oceanic and Atmospheric Administration (NOAA), Commerce.

ACTION: Notice of a meeting of the South Atlantic Fishery Management Council's Scientific and Statistical Committee.

SUMMARY: The South Atlantic Fishery Management Council (Council) will hold a meeting of the Scientific and Statistical Committee (SSC) from October 21-23, 2025.

DATES: The SSC meeting will be held from 8:30 a.m. until 5 p.m. EDT on October 21, from 8:30 a.m. until 5 p.m. on October 22, and from 8:30 a.m. until 12 p.m. on October 23, 2025.

ADDRESSES:

Council Address: South Atlantic Fishery Management Council, 4055 Faber Place Drive, Suite 201, N Charleston, SC 29405.

Meeting Address: The meetings will be held at the Town and Country Inn, 2008 Savannah Highway, Charleston, SC 29407; phone: 843-571-1000. The meetings will also be available via webinar. Registration is required. Webinar registration, an online public comment form, and briefing book materials will be available two weeks prior to the meetings at: https://safmc.net/scientific-and-statistical-committee-meeting/.

FOR FURTHER INFORMATION CONTACT: Kim Iverson, Public Information Officer, 4055 Faber Place Drive, Suite 201, North Charleston, SC 29405; phone 843/571-4366 or toll free 866/SAFMC-10; FAX 843/769-4520; email: kim.iverson@safmc.net.

SUPPLEMENTARY INFORMATION: The SSC meeting agenda includes: review of Revised SEDAR (Southeast Data, Assessment, and Review) 89 for South Atlantic Tilefish; the Dolphinfish Management Strategy Evaluation; the Wreckfish Operating Model for the Management Procedure; Black Sea Bass genetics and stock structure report; and the terms of reference for upcoming 2026-2027 stock assessments. The SSC will receive presentations on the Marine Recreational Information Program Fishing Effort Survey (MRIP-FES) research and improvements, SEDAR process changes and the SSC's role, and Maximum Sustainable Yield Proxies. The SSC will receive updates on the Council's response to Executive Order 14276 on Restoring American Seafood Competitiveness, fishery management plan amendments, ongoing and upcoming SSC workgroup progress, and conduct other business as needed.

Special Accommodations:

These meetings are physically accessible to people with disabilities. Requests for auxiliary aids should be directed to the council office (see ADDRESSES) 5 days prior to the meeting.

Note: The times and sequence specified in this agenda are subject to change.

(Authority: 16 U.S.C. 1801 et seq.)

Dated: September 29, 2025.
Becky J. Curtis,
Acting Deputy Director, Office of Sustainable Fisheries, National Marine Fisheries Service.

[FR Doc. 2025-19369 Filed 10-1-25; 8:45 am]

BILLING CODE 3510-22-P